DEPARTMENT OF VETERANS AFFAIRS

[OMB Control No. 2900-0862]

Agency Information Collection Activity Under OMB Review: Decision Review Request: Higher-Level Review

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0862.

FOR FURTHER INFORMATION CONTACT: Maribel Aponte, Office of Enterprise and Integration, Data Governance Analytics (008), 1717 H Street NW, Washington, DC 20006, (202) 266-4688 or email maribel.aponte@va.gov. Please refer to “OMB Control No. 2900-0862” in any correspondence.

SUPPLEMENTARY INFORMATION:

Authority: Public Law 115-55; 38 CFR 3.2601.

Title: Decision Review Request: Higher-Level Review (VA Form 20-0996).

OMB Control Number: 2900-0862.

Type of Review: Revision of a currently approved collection.

Abstract: VA Form 20-0996, Decision Review Request: Higher-Level Review is used by a claimant to formally request a Higher-Level Review of an initial VA decision, in accordance with the Appeals Modernization Act. The information collected is used by VA to identify the issues in dispute which the claimant seeks review of in the Higher-Level Review Lane. Additionally, the information collected is used to schedule a telephonic informal conference, when requested.

This is revision to the form. Changes include significant revisions to the instructions section to make them easier to understand. New sections were added to the form to provide clarify and easier completion: Claimant's Identification Information, Benefit Type, SOC/SSOC Opt-In from Legacy Appeals System, and Authorized Representative Signature. The section on requesting informal conferences was edited to make it easier to understand and complete. Examples were added to the Issues for Higher-Level Review section. Formatting changes were made to simplify the form. Optical character recognition boxes were added to assist scanning technology.

There is a decrease in the respondent burden because the associated control number originally included two forms but we are using this revision to separate the two forms into two control numbers and only VA Form 20-0996 will remain under the current control number.

An agency may not conduct or sponsor, and a person is not required to respond to a collection of information unless it displays a currently valid OMB control number. The Federal Register Notice with a 60-day comment period soliciting comments on this collection of information was published at 85 FR 81287 on December 15, 2020, pages 81287 and 81288.

Affected Public: Individuals or Households.

Estimated Annual Burden: 23,375 hours.

Estimated Average Burden per Respondent: 15 minutes.

Frequency of Response: On occasion.

Estimated Number of Respondents: 85,500 per year.

By direction of the Secretary.
Maribel Aponte,
VA PRA Clearance Officer, Office of Enterprise and Integration, Data Governance Analytics, Department of Veterans Affairs.

[FR Doc. 2021-03206 Filed 2-17-21; 8:45 am]

BILLING CODE 8320-01-P